DEPARTMENT OF HEALTH AND HUMAN SERVICES

Centers for Disease Control and Prevention

[60Day-16-16BBS]

Proposed Data Collection Submitted for Public Comment and Recommendations—Airline and Traveler Information Collection: Domestic Manifests and the Passenger Locator Form; Correction

AGENCY: Centers for Disease Control and Prevention (CDC), Department of Health and Human Services (HHS).

ACTION: Notice; Correction.

SUMMARY: The Centers for Disease Control and Prevention (CDC) published a document in the Federal Register of September 2, 2016, concerning request for comments on Proposed Data Collection Submitted for Public Comment and Recommendations—Airline and Traveler Information Collection: Domestic Manifests and the Passenger Locator Form. The document provided the incorrect docket number (CDC-2016-0088).

FOR FURTHER INFORMATION CONTACT: Leroy Richardson, 1600 Clifton Road, MS D-74, Atlanta, GA 30333; telephone (404) 639-4965; email: omb@cdc.gov.

Correction

In the Federal Register of September 2, 2016, in FR Doc. 2016-21103, on page 60702, in the second column (second and third paragraphs), correct the Docket No. to read:

CDC-2016-0086

Dated: September 9, 2016.
Leroy A. Richardson,
Chief, Information Collection Review Office, Office of Scientific Integrity, Office of the Associate Director for Science, Office of the Director, Centers for Disease Control and Prevention.

[FR Doc. 2016-21923 Filed 9-12-16; 8:45 am]

BILLING CODE 4163-18-P